DEPARTMENT OF HOMELAND SECURITY

Coast Guard

33 CFR Parts 97 and 160

[Docket No. USCG-2000-7080]

RIN 1625-AA25 [formerly RIN 2115-AF97]

Cargo Securing Manuals

AGENCY: Coast Guard, DHS.

ACTION: Correcting amendments.

SUMMARY: The Coast Guard published an interim rule in the Federal Register on May 9, 2016, that prescribes when and how the loss or jettisoning of cargo at sea must be reported. That rule contained a typographical error that erroneously revised a force majeure regulation instead of a notice of hazardous conditions regulation. This document corrects that error.

DATES: Effective August 29, 2016.

FOR FURTHER INFORMATION CONTACT: If you have questions on this rule, call or email Mr. Ken Smith, Office of Operating and Environmental Standards (CG-OES-2), Coast Guard; telephone 202-372-1413, email Ken.A.Smith@uscg.mil.

SUPPLEMENTARY INFORMATION:

Viewing Documents Associated With This Rule

To view the interim rule published on May 9, 2016, or other documents in the docket for the Cargo Securing Manuals rulemaking, go to www.regulations.gov, type the docket number, USCG-2000-7080, in the “SEARCH” box and click “SEARCH.” Click on “Open Docket Folder” in the first item listed. Use the following link to go directly to the docket: www.regulations.gov/document?D=USCG-2000-7080-0040.

Background

In 2013 the Coast Guard proposed to revise 33 CFR 160.215, “Notice of hazardous conditions,” as part of its supplemental notice of proposed rulemaking regarding cargo securing manuals (78 FR 68784, November 15, 2013). In 2015, a different rulemaking, regarding notices of arrival, redesignated § 160.215 as § 160.216, and inserted a provision on force majeure in § 160.215 (80 FR 5281, January 30, 2015). In 2016, the Coast Guard published an interim rule on cargo securing manuals that implemented changes it had proposed in 2013, including the amendment of § 160.215 (81 FR 27992, May 9, 2016). Because the 2016 rule amended § 160.215 when it should have amended the redesignated section, § 160.216, the force majeure provision was unintentionally removed and part 160 contained two consecutive sections on notice of hazardous conditions. It was an error for the interim rule to revise § 160.215 and replace the force majeure provision. This rule corrects that error and a cross-reference in 33 CFR 97.115 to § 160.215.

Need for Correction

As discussed above, the interim rule published May 9, 2016, incorrectly replaced force majeure regulations in § 160.215, instead of amending notice of hazardous conditions regulations in § 160.216.

List of Subjects

33 CFR Part 97

Cargo stowage and securing, Cargo vessels, Hazardous materials, Incorporation by reference, Reporting and recordkeeping requirements.

33 CFR Part 160

Administrative practice and procedure, Harbors, Hazardous materials transportation, Marine safety, Navigation (water), Personally identifiable information, Reporting and recordkeeping requirements, Seamen, Vessels, Waterways.

For the reasons stated in the preamble, 33 CFR parts 97 and 160 are amended as follows:

PART 97—RULES FOR THE SAFE OPERATION OF VESSELS, STOWAGE AND SECURING OF CARGOES

1. The authority citation for part 97 continues to read as follows:

Authority: 46 U.S.C. 2103, 3306; E.O. 12234; Department of Homeland Security Delegation No. 0170.1(92)(a) and (b).

§ 97.115 [Amended]

2. In § 97.115(a), remove “160.215”, and add, in its place, “160.216”.

PART 160—PORTS AND WATERWAYS SAFETY—GENERAL

3. The authority citation for part 160 continues to read as follows:

Authority: 33 U.S.C. 1223, 1231; 46 U.S.C. Chapter 701; Department of Homeland Security Delegation No. 0170.1. Subpart C is also issued under the authority of 33 U.S.C. 1225 and 46 U.S.C. 3715.

§ 160.216 [Removed]

4. Remove § 160.216.

§ 160.215 [Redesignated as § 160.216]

5. Redesignate § 160.215 as § 160.216.

6. Add new § 160.215 to read as follows:

§ 160.215 Force majeure.

When a vessel is bound for a port or place of the United States under force majeure, it must comply with the requirements in this section, but not other sections of this subpart. The vessel must report the following information to the nearest Captain of the Port as soon as practicable:

(a) The vessel Master's intentions;

(b) Any hazardous conditions as defined in § 160.202; and

(c) If the vessel is carrying certain dangerous cargo or controlling a vessel carrying certain dangerous cargo, the amount and name of each CDC carried, including cargo UN number if applicable.

Dated: August 24, 2016.
J.G. Lantz,
Director of Commercial Regulations and Standards.

[FR Doc. 2016-20678 Filed 8-26-16; 8:45 am]

BILLING CODE 9110-04-P